DEPARTMENT OF COMMERCE

National Institute of Standards and Technology

National Fire Codes: Request for Proposals for Revision of Codes and Standards

AGENCY: National Institute of Standards and Technology, Commerce.

ACTION: Notice.

SUMMARY: The National Fire Protection Association (NFPA) proposes to revise some of its fire safety codes and standards and requests proposals from the public to amend existing or begin the process of developing new NFPA fire safety codes and standards. The purpose of this request is to increase public participation in the system used by NFPA to develop its codes and standards. The publication of this notice of request for proposals by the National Institute of Standards and Technology (NIST) on behalf of NFPA is being undertaken as a public service; NIST does not necessarily endorse, approve, or recommend any of the standards referenced in the notice.

DATES: Interested persons may submit proposals on or before the dates listed with the standards.

ADDRESSES: Casey C. Grant, Secretary, Standards Council, NFPA, 1 Batterymarch Park, Quincy, Massachusetts 02269-9101.

FOR FURTHER INFORMATION CONTACT: Casey C. Grant, Secretary, Standards Council, at above address, (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR part 51.

Request for Proposals

Interested persons may submit proposals, supported by written data, views, or arguments to Casey C. Grant, Secretary, Standards Council, NFPA, 1 Batterymarch Park, Quincy, Massachusetts 02269-9101. Proposals should be submitted on forms available from the NFPA Codes and Standards Administration Office or on NFPA's Web site at http://www.nfpa.org.

Each person must include his or her name and address, identify the document and give reasons for the proposal. Proposals received before or by 5 p.m. local time on the closing date indicated would be acted on by the Committee. The NFPA will consider any proposal that it receives on or before the date listed with the codes or standard.

At a later date, each NFPA Technical Committee will issue a report, which will include a copy of written proposals that have been received, and an account of their disposition of each proposal by the NFPA Committee as the Report on Proposals. Each person who has submitted a written proposal will receive a copy of the report.

Document-edition | Document title | Proposal closing date
NFPA 10-2002 | Standard for Portable Fire Extinguishers | 6/25/2004
NFPA 13-2002 | Standard for the Installation of Sprinkler Systems | 11/5/2004
NFPA 13D-2002 | Standard for the Installation of Sprinkler Systems in One- and Two-Family Dwellings and Manufactured Homes | 11/5/2004
NFPA 13R-2002 | Standard for the Installation of Sprinkler Systems in Residential Occupancies up to and Including Four Stories in Height | 11/5/2004
NFPA 14-2003 | “Standard for the Installation of Standpipe Private Hydrants and Hose Systems” | 6/25/2004
NFPA 15-2001 | Standard for Water Spray Fixed Systems for Fire Protection | 11/29/2004
NFPA 20-2003 | Standard for the Installation of Stationary Pumps for Fire Protection | 12/31/2004
NFPA 24-2002 | Standard for the Installation of Private Fire Service Mains and Their Appurtenances | 11/5/2004
NFPA 30B-2002 | Code for the Manufacture and Storage of Aerosol Products | 11/29/2004
NFPA 31-2001 | Standard for the Installation of Oil-Burning Equipment | 6/25/2004
NFPA 33-2003 | Standard for Spray Application Using Flammable or Combustible Materials | 11/29/2004
NFPA 34-2003 | Standard for Dipping and Coating Processes Using Flammable or Combustible Liquids | 11/29/2004
NFPA 37-2002 | Standard for the Installation and Use of Stationary Combustion Engines and Gas Turbines | 6/25/2004
NFPA 40-2001 | Standard for the Storage and Handling of Cellulose Nitrate Film | 11/29/2004
NFPA 68-2002 | Guide for Venting of Deflagrations | 6/25/2004
NFPA 70B-2002 | Recommended Practice for Electrical Equipment Maintenance | 6/25/2004
NFPA 72-2002 | National Fire Alarm Code ® | 11/5/2004
NFPA 79-2002 | Electrical Standard for Industrial Machinery | 6/25/2004
NFPA 85-2004 | Boiler and Combustion Systems Hazards Code | 5/27/2005
NFPA 97-2003 | Standard Glossary of Terms Relating to Chimneys Vents and Heat-Producing Appliances | 6/25/2004
NFPA 150-2000 | Standard on Fire Safety in Racetrack Stables | 11/29/2004
NFPA 211-2003 | “Standard for Chimneys Fireplaces Vents and Solid Fuel-Burning Appliances” | 6/25/2004
NFPA 232-2000 | Standard for the Protection of Records | 6/25/2004
NFPA 289-P* | Standard Method of Fire Test for Room Fire Growth Contribution of Individual Fuel Packages | 6/25/2004
NFPA 291-2002 | Recommended Practice for Fire Flow Testing and Marking of Hydrants | 11/5/2004
NFPA 418-2001 | Standard for Heliports | 6/25/2004
NFPA 750-2003 | Standard on Water Mist Fire Protection Systems | 6/25/2004
NFPA 804-2001 | Standard for Fire Protection for Advanced Light Water Reactor Electric Generating Plants | 6/25/2004
NFPA 901-2001 | Standard Classifications for Incident Reporting and Fire Protection Data | 6/25/2004
NFPA 1142-2001 | Standard on Water Supplies for Suburban and Rural Fire Fighting | 8/13/2004
NFPA 1401-2001 | Recommended Practice for Fire Service Training Reports and Records | 6/25/2004
NFPA 1405-2001 | Guide for Land-Based Fire Fighters Who Respond to Marine Vessel Fires | 6/25/2004
NFPA 1500-2002 | Standard on Fire Department Occupational Safety and Health Program | 11/29/2004
NFPA 1582-2003 | Standard on Comprehensive Occupational Medical Program for Fire Departments | 11/29/2004
NFPA 1583-2000 | Standard on Health-Related Fitness Programs for Fire Fighters | 11/29/2004
NFPA 1901-2003 | Standard for Automotive Fire Apparatus | 3/31/2006
NFPA 1906-2001 | Standard for Wildland Fire Apparatus | 5/28/2004
NFPA 1911-2002 | Standard for Service Tests of Fire Pump Systems on Fire Apparatus | 4/1/2005
NFPA 1912-2001 | Standard for Fire Apparatus Refurbishing | 5/28/2004
NFPA 1914-2002 | Standard for Testing Fire Department Aerial Devices | 4/1/2005
NFPA 1915-2000 | Standard for Fire Apparatus Preventative Maintenance Program | 4/1/2005
NFPA 1982-1998 | Standard on Personal Alert Safety Systems (PASS) | 6/25/2004
* Proposed NEW drafts are available from NFPA's Web site— http://www.NFPA.org or may be obtained from NFPA's Codes and Standards Administration, 1 Batterymarch Park, Quincy, MA 02269.

Dated: May 21, 2004.
Hratch Semerjian,
Acting Director.

[FR Doc. 04-12185 Filed 5-27-04; 8:45 am]

BILLING CODE 3510-13-P